DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on November 24, 2009 [74 FR 61405-61406].

DATES: Comments must be submitted on or before May 14, 2010.

FOR FURTHER INFORMATION CONTACT: Shirlene Ball at the National Highway Traffic Safety Administration, Office of the Chief Information Officer, (NPO-400), 1200 New Jersey Ave., SE., W51-217, NPO 420, Washington, DC 20590. Mrs. Ball's telephone number is (202) 366-2245.

SUPPLEMENTARY INFORMATION:

National Highway Traffic Safety Administration

Title: Air Bag Deactivation.

OMB Number: 2127-0588.

Type of Request: Extension of a currently approved information collection.

Abstract: If a private individual or lessee wants to install an air bag on-off switch to turn-off either or both frontal air bags, they must complete Form OMB 2127-0588 to certify certain statements regarding use of the switch. The dealer or business must, in turn, submit the completed forms to NHTSA within seven days. The submission of the completed forms by the dealers and repair business to NHTSA, as required, will serve the agency several purposes. They will aid the agency in monitoring the number of authorization requests submitted and the pattern in claims of risk groups membership. The completed forms will enable the agency to determine whether the dealers and repair business are complying with the terms of the exemption, which include a requirement that the dealers and repair businesses accept only fully completed forms. Finally, submission of the completed forms to the agency will promote honesty and accuracy in the filling out of the forms by vehicle owners. The air bag on-off switches are installed only in vehicles in which the risk of harm needs to be minimized on a case-by-case basis.

Affected Public: Private individuals, fleet owners and lessees, motor vehicle dealers, repair business.

Estimated Total Annual Burden: 3,750 hours.

Estimated Number of Respondents: 7,500.

ADDRESSES: Send comments, within 30 days, to: Chandana Achanta, Desk Officer, Office of Management and Budget, Office of Information and Regulatory Affairs, Attention: by fax at (202) 395-6974; by mail at Room 10235, 725-17th Street, NW., Washington, DC 20503; or at OIRA_SUBMISSION@OMB.EOP.GOV.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on April 6, 2010.
Kevin Mahoney,
Director, Corporate Customer Services.

[FR Doc. 2010-8488 Filed 4-13-10; 8:45 am]

BILLING CODE 4910-59-P